DEPARTMENT OF THE INTERIOR

Bureau of Land Management

[LLORC00000.L58820000.AL0000.LXRSCC990000.252W; HAG 10-0308]

Meetings; Coos Bay District Resource Advisory Committee

AGENCY: Bureau of Land Management, Interior.

ACTION: Meeting Notice for the Coos Bay District Resource Advisory Committee.

SUMMARY: Pursuant to the Federal Land Policy and Management Act and the Federal Advisory Committee Act, the U.S. Department of the Interior, Bureau of Land Management (BLM) Coos Bay District Resource Advisory Committee (CBDRAC) will meet as indicated below:

DATES: The CBDRAC meeting will begin at 9 a.m. PDT on July 6, 2010.

ADDRESSES: The CBDRAC will meet at the Coos Bay BLM District Office, 1300 Airport Lane, North Bend, Oregon 97459.

FOR FURTHER INFORMATION CONTACT: Glenn Harkleroad, BLM Coos Bay Assistant Field Manager, 1300 Airport Lane, North Bend, OR 97459, (541) 751-4361, or e-mail glenn_harkleroad@blm.gov.

SUPPLEMENTARY INFORMATION: The meeting agenda includes opportunities for members to review and recommend projects for funding and other matters as may reasonably come before the council. The public is welcome to attend all portions of the meeting and may make oral comments to the Council at 11 a.m. on July 6, 2010. Those who verbally address the CBDRAC are asked to provide a written statement of their comments or presentation. Unless otherwise approved by the CBDRAC Chair, the public comment period will last no longer than 15 minutes, and each speaker may address the CBDRAC for a maximum of five minutes. If reasonable accommodation is required, please contact the BLM's Coos Bay District at (541) 756-0100 as soon as possible. Before including your address, phone number, e-mail address, or other personal identifying information in your comment, you should be aware that your entire comment—including your personal identifying information—may be made publicly available at any time. While you can ask us in your comment to withhold your personal identifying information from public review, we cannot guarantee that we will be able to do so.

Dated: June 23, 2010.
Mark E. Johnson,
District Manager, Coos Bay District Office.

[FR Doc. 2010-15783 Filed 6-28-10; 8:45 am]

BILLING CODE 4310-33-P